DEPARTMENT OF TRANSPORTATION

Surface Transportation Board

[Docket No. FD 35870]

Central of Georgia Railroad Company—Corporate Family Transaction Acquisition Exemption—Norfolk Southern Railway Company

Central of Georgia Railroad Company (CGA), a wholly owned subsidiary of Norfolk Southern Railway Company (NSR), has filed a verified notice of exemption under 49 CFR 1180.2(d)(3) for a corporate family transaction in which CGA will acquire a segment of a line of railroad from NSR.¹ The segment is a 0.26-mile portion of NSR's M-Line, extending between mileposts 16.65-M and 16.91-M in Experiment, Spalding County, Ga.

¹ According to CGA, the line will be transferred by quitclaim deed, which has not yet been prepared. CGA states that a copy of the deed will be filed as soon as it is available.

According to CGA, the proposed transaction will transfer the ownership of the line from NSR to CGA. CGA states that no active customers are located on the line and no service has been provided over the line for at least three years. CGA also states that the line parallels and shares a portion of the right-of-way with CGA's existing and active S-line, which extends from Atlanta, Ga., to Macon, Ga. According to CGA, NSR's predecessors previously abandoned other segments of the M-line such that the line is accessible today only as a branch off of CGA's S-line.

Unless stayed, the exemption will be effective on December 12, 2014 (30 days after the verified notice was filed). Applicant states that the parties intend to consummate the proposed transaction on or about December 11, 2014, but they may not do so prior to the December 12, 2014 effective date of the exemption.

According to CGA, the purpose of the proposed transaction is to centralize title and control of adjacent lines within NSR's corporate family under the same subsidiary for more efficient management.

The line transfer is a transaction within a corporate family exempted from prior review and approval under 49 CFR 1180.2(d)(3). Applicant states that the transaction will not adversely impact service levels, significantly change operations, or impact CGA's competitive balance with carriers outside the corporate family.

As a condition to the use of this exemption, any employees adversely affected by this transaction will be protected by the conditions set forth in New York Dock Railway—Control—Brooklyn Eastern District Terminal, 360 I.C.C. 60 (1979).

If the notice contains false or misleading information, the exemption is void ab initio. Petitions to revoke the exemption under 49 U.S.C. 10502(d) may be filed at any time. The filing of a petition to revoke will not automatically stay the effectiveness of the exemption. Petitions for stay must be filed no later than December 5, 2014 (at least seven days before the exemption becomes effective).

An original and 10 copies of all pleadings, referring to Docket No. FD 35870, must be filed with the Surface Transportation Board, 395 E Street SW., Washington, DC 20423-0001. In addition, one copy of each pleading must be served on applicant's representative, Garrett D. Urban, Norfolk Southern Corporation, Three Commercial Place, Norfolk, VA 23510.

Board decisions and notices are available on our Web site at WWW.STB.DOT.GOV.

Decided: November 24, 2014.
By the Board, Rachel D. Campbell, Director, Office of Proceedings.
Brendetta S. Jones,
Clearance Clerk.

[FR Doc. 2014-28120 Filed 11-26-14; 8:45 am]

BILLING CODE 4915-01-P